DEPARTMENT OF TRANSPORTATION

Federal Aviation Administration

14 CFR Part 39

[Docket No. 2003-SW-32-AD]

RIN 2120-AA64

Airworthiness Directives; Agusta S.p.A. Model A109E Helicopters

AGENCY: Federal Aviation Administration, DOT.

ACTION: Notice of proposed rulemaking (NPRM).

SUMMARY: This document proposes adopting a new airworthiness directive (AD) for the specified Agusta S.p.A. (Agusta) model helicopters. This proposal would require disabling certain windshield wipers and thereafter modifying the electrical system of the windshield wipers by installing a new resistor and condenser, eliminating incompatibility problems with the relays, and replacing the timed relay for certain windshield wiper kits. This proposal is prompted by testing that revealed overheating of the electrical resistor on the electrical system of the windshield wipers due to a system overload because of a partial incompatibility of new timed relays with the configuration of the windshield wiper electrical system. The actions specified by this proposed AD are intended to prevent the incompatibility of certain relays with the windshield wiper electrical system, overheating of the resistor due to system overload, and an electrical fire.

DATES: Comments must be received on or before March 8, 2004.

ADDRESSES: Submit comments in triplicate to the Federal Aviation Administration (FAA), Office of the Regional Counsel, Southwest Region, Attention: Rules Docket No. 2003-SW-32-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Carroll Wright, Aviation Safety Engineer, FAA, Rotorcraft Directorate, Regulations and Guidance Group, Fort Worth, Texas 76193-0111, telephone (817) 222-5120, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2003-SW-32-AD.” The postcard will be date stamped and returned to the commenter.

Discussion

The Ente Nazionale per l'Aviazione Civile (ENAC), the airworthiness authority for Italy, notified the FAA that an unsafe condition may exist on Agusta Model 109E helicopters. ENAC advises modifying the electrical installation of some windshield wiper kits as stated in the manufacturer's service information.

Agusta has issued Alert Bollettino Tecnico No. 109SP-27, Revision A, dated February 7, 2003 (ABT), which specifies modifying the electrical installation of windshield wipers kit, part number (P/N) 109-0741-65, by installing kit, P/N 109-0823-13, to replace the existing resistor and condenser to eliminate functional malfunction when timed relays, P/N TDH-8070-1001P or T412-2006, are installed. During a ground functional test, overheating of the electrical resistor was found in the windshield wiper electrical system due to a system overload. An investigation revealed that the source of the overheating was a functional malfunction caused by a partial incompatibility of new timed relays with the actual configuration of the windshield wipers electrical system. ENAC classified the ABT as mandatory and issued AD No. 2003-032, dated February 10, 2003, to ensure the continued airworthiness of these helicopters in Italy.

This helicopter model is manufactured in Italy and is type certificated for operation in the United States under the provisions of 14 CFR 21.29 and the applicable bilateral agreement. Pursuant to the applicable bilateral agreement, ENAC has kept the FAA informed of the situation described above. The FAA has examined the findings of the ENAC, reviewed all available information, and determined that AD action is necessary for products of this type design that are certificated for operation in the United States.

This previously described unsafe condition is likely to exist or develop on other helicopters of the same type design registered in the United States. Therefore, the proposed AD would require the following:

• Within 5 hours time-in-service (TIS), disable the windshield wipers for certain serial-numbered helicopter models. Install a placard stating that the windshield wipers are inoperative.

• Within 6 months, for certain serial-numbered helicopter models, modify the electrical system of the windshield wipers and remove the installed placard.

• Within 6 months, replace timed relays, P/N T412-DJ1001-C, with timed relays, P/N TCD-8070-1001P or T412-2006, for certain serial-numbered helicopters, and modify the electrical system of the windshield wipers.

Accomplish the actions in accordance with the ABT described previously.

On July 10, 2002, the FAA issued a new version of 14 CFR part 39 (67 FR 47997, July 22, 2002), which governs the FAA's AD system. The regulation now includes material that relates to altered products, special flight permits, and alternative methods of compliance. Because we have now included this material in part 39, we no longer need to include it in each individual AD.

The FAA estimates that this proposed AD would affect 18 helicopters of U.S. registry. It would take approximately 3 work hours to disable the windshield wipers and modify the electrical system of the windshield wipers and 4 work hours per helicopter if the timed relays must be replaced by modifying the electrical system of the windshield wipers. The average labor rate is $65 per work hour. Required parts would cost approximately $367 per helicopter. Based on these figures, we estimate that the total cost impact of the proposed AD on U.S. operators would be $14,796, assuming the relays are replaced on the entire fleet. However, the manufacturer states in its ABT that it will reimburse owners for 3 or 4 work hours at a fixed rate of $40 per work hour and will provide the parts for free. Assuming a warranty credit of 4 work hours ($2,880) and free parts ($6,606), the estimated total cost impact of this proposed AD would be $5,310.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Agusta S.p.A: Docket No. 2003-SW-32-AD.

Applicability: Model A109E helicopters, certificated in any category.

Compliance: Required as indicated, unless accomplished previously.

To prevent the incompatibility of certain relays with the windshield wiper electrical system, overheating of the resistor due to system overload, and an electrical fire, accomplish the following:

(a) For helicopters, serial number (S/N) 11502 through 11504, and 11122 through 11130, except 11123, 11127, and 11129:

(1) Within 5 hours time-in-service, do the following:

(i) Disable the windshield wipers by following the Compliance Instructions, Part I, paragraphs 2.1 through 2.5, of Agusta Alert Bollettino Tecnico No. 109EP-27, Revision A, dated February 7, 2003 (ABT).

(ii) Install a placard stating that the windshield wipers are inoperative by following the Compliance Instructions, Part I, paragraph 2.6, of the ABT.

(2) Within 6 months, modify the electrical system of the windshield wipers using the Compliance Instructions, Part II, paragraphs 1. through 15., of the ABT, and remove the placard that was installed as required by paragraph (a)(1)(ii) of this AD.

(b) For helicopters, S/Ns 11151, 11501, and 11001 through 11133, except 11122, 11124 through 11128, and 11130, with timed relay, part number (P/N) T412-DJ1001-C installed, on or before [insert date 1 year after date of publication of final rule in the Federal Register] or when you replace a timed relay, P/N T412-DJ1001-C, with either relay, P/N TDH-8070-1001P or P/N T412-2006, whichever occurs first:

(1) If windshield wiper kit, P/N 109-0811-44-105 or -106 is installed, modify the windshield wiper electrical system and replace the timed relay, P/N T412-DJ1001-C, with a timed relay, P/N TDH-8070-1001P or P/N T412-2006, by following the Compliance Instructions, Part III, paragraphs 1. through 1.16, of the ABT.

(2) If windshield wiper kit, P/N 109-0811-44-101 or -102 is installed, modify the windshield wiper electrical system and replace the timed relay, P/N T412-DJ1001-C, with a timed relay, P/N TDH-8070-1001P or P/N T412-2006, by following the Compliance Instructions, Part III, paragraphs 2. through 2.19, of the ABT.

(c) To request a different method of compliance or a different compliance time for this AD, follow the procedures in 14 CFR 39.19. Contact the Safety Management Group, FAA, for information about previously approved alternative methods of compliance.

Note: The subject of this AD is addressed in Ente Nazionale per l'Aviazione Civile (Italy), AD No. 2003-032, dated February 10, 2003.

Issued in Fort Worth, Texas, on December 31, 2003.
Kim Smith,
Acting Manager, Rotorcraft Directorate, Aircraft Certification Service.

[FR Doc. 04-369 Filed 1-7-04; 8:45 am]

BILLING CODE 4910-13-P